NATIONAL SCIENCE FOUNDATION

Agency Information Collection Activities: Proposed Collection; Comment Request

AGENCY: National Science Foundation.

ACTION: Notice and request for comments.

SUMMARY: Under the Paperwork Reduction Act of 1995, Pub. L. 104-13 (44 U.S.C. 3501 et seq.), and as part of its continuing effort to reduce paperwork and respondent burden, the National Science Foundation (NSF) is inviting the general public or other Federal agencies to comment on this proposed continuing information collection. The NSF will publish periodic summaries of the proposed projects.

Comments: Comments are invited on: (a) Whether the proposed collection of information is necessary for the proper performance of the functions of the Foundation, including whether the information will have practical utility; (b) the accuracy of the Foundation's estimate of the burden of the proposed collection of information; (c) ways to enhance the quality, utility, and clarity of the information to be collected; and (d) ways to minimize the burden of the collection of information on those who are to respond, including through the use of automated collection techniques or other forms of information technology.

DATES: Written comments on this notice must be received by July 21, 2014, to be assured consideration. Comments received after that date will be considered to the extent practicable. Send comments to address below.

FOR FURTHER INFORMATION CONTACT: Ms. Suzanne H. Plimpton, Reports Clearance Officer, National Science Foundation, 4201 Wilson Boulevard, Suite 1265, Arlington, Virginia 22230; telephone (703) 292-7556; or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION:

Title of Collection: Survey of Graduate Students and Postdoctorates in Science and Engineering.

OMB Approval Number: 3145-0062.

Expiration Date of Current Approval: October 31, 2014.

Type of Request: Intent to seek approval to renew an information collection for three years.

1. Abstract

The Survey of Graduate Students and Postdoctorates in Science and Engineering (GSS) is sponsored by the National Science Foundation and the National Institutes of Health. The GSS originated in 1966 and has been conducted annually since 1972. The GSS is a census of all departments in science, engineering and health fields within academic institutions with post-baccalaureate programs in the United States. The total number of respondents in 2014 survey is estimated to be 13,774 departments (reporting units) located in about 670 degree-granting institutions. The GSS is the only national survey that collects information on the characteristics of graduate enrollment for specific science, engineering and health disciplines at the department level. It also collects information on race and ethnicity, citizenship, gender, sources of support, mechanisms of support, and enrollment status for graduate students; information on postdoctoral appointments (postdocs) by citizenship, sex, sources of support, type and origin of doctoral degree; and information on other doctorate-holding non-faculty researchers. To improve coverage of postdocs, the GSS will collect information on the race and ethnicity, sex, citizenship, source of support, field of research for the postdocs employed in Federally Funded Research and Development Centers (FFRDCs) in 2015.

The National Science Foundation Act of 1950, as subsequently amended, includes a statutory charge to “. . . provide a central clearinghouse for the collection, interpretation, and analysis of data on scientific and engineering resources, and to provide a source of information for policy formulation by other agencies of the Federal Government.” The GSS is designed to comply with these mandates by providing information on the characteristics of academic graduate enrollment and postdoctoral components in science, engineering and health fields.

The GSS data are routinely provided to Congress and other Federal agencies. The GSS institutions are major users of the GSS data along with professional societies such American Association of Universities, Association of American Medical Colleges, and the Carnegie Foundation. Graduate enrollment and postdoc data are often used in reports by the national media.

The GSS (along with other academic sector surveys from both NSF and the National Center for Education Statistics) is one of the inputs into the WebCASPAR data system, which provides access to science and engineering statistical data from U.S. academic institutions. Among other uses, this NSF on-line database is used by NSF to review changing enrollment levels to assess the effects of NSF initiatives, to track student support patterns and to analyze participation in S&E fields by targeted groups for all disciplines or for selected disciplines and for selected groups of institutions.

The Foundation also uses the GSS information to prepare congressionally mandated reports such as Women, Minorities and Persons with Disabilities in Science and Engineering and Science and Engineering Indicators. A public use file is also made available on the world-wide Web.

Data are obtained by a Web survey and starts each fall in mid-October. The data are solicited under the authority of the National Science Foundation Act of 1950, as amended. All information will be used for statistical purposes only. Participation in the survey is voluntary.

2. Expected Respondents

The GSS is a census of all eligible academic institutions in the U.S. with post-baccalaureate programs in science, engineering and health fields and their related departments. The response rate is based on the number of departments that respond to the survey.

3. Estimate of Burden

The initial GSS data request is sent to a designated respondent (School Coordinator) at each academic institution in the fall. The School Coordinator may complete or delegate the collection of the list of eligible units (departments, programs, research centers and health care facilities) and of the aggregate counts of graduate students enrolled or postdocs employed in each unit by various characteristics. The amount of time it takes to complete the GSS data (unit lists and counts of graduate students and postdocs) varies dramatically and depends to a large degree on the extent to which the school's records are centrally stored and computerized.

The 2013 GSS asked the unit respondents to provide an estimate of the time spent in providing the GSS data. The average burden for completing the GSS was 2.6 hours per reporting unit, which includes providing unit listing and aggregate counts. Based on prior experience, the estimate of the per unit burden will decrease slightly each year as the respondents become familiar with the question items in the survey, thus we estimate a burden of 2.6 hours per reporting unit in 2014, and a burden of 2.5 hours per reporting unit in 2015 and 2016. The number of units in the subsequent survey cycle will include the units in the previous year plus approximately an additional 1% increase in units. The estimated burden estimates for 2014 GSS is 36,171 hours from 13,912 units; 35,268 hours from 14,091 units (including 40 FFRDCs) for 2015; and 35,481 hours from 14,192 units for 2016. The average estimated burden for each cycle of GSS is about 35,760 hours. The total estimated respondent burden of the GSS, including 360 hours for the methodological testing, would be 107,280 hours over the 3-year clearance period.

Dated: May 15, 2014.
Suzanne H. Plimpton,
Reports Clearance Officer, National Science Foundation.

[FR Doc. 2014-11697 Filed 5-20-14; 8:45 am]

BILLING CODE 7555-01-P